DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 23, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: USDA Trade Missions and Trade Shows.

OMB Control Number: 0551-0050.

Summary of Collection: Under 7 U.S.C. 1761 Foreign Market Development; 7 U.S.C. 5693 Export Promotion—Foreign Agricultural; 7 U.S.C. 1765b Function of the US Agricultural Trade; and Section 12602 of the Agricultural Act of 2014 (Pub. L. 113-79) (The Act), as amended by the Agricultural Improvement Act of 2018 (Pub. L. 115-334), authorizes the USDA Secretary to collect information regarding customer and consumer feedback by gathering more useful information to further program objectives for USDA Trade Mission and Shows Events. The agency will use five instruments to collect this feedback: (1) Trade Mission Application; (2) Trade Missions (Post-Event) Survey; (3) USDA-Endorsed Trade Shows (Post-Event) Survey; (4) Virtual Trade Event Application; (5) Virtual Trade Events (Post-Event) Survey.

Need and Use of the Information: USDA will be used the information gathered to implement effective trade promotion events and ensure that program objectives are met. The three voluntary post-event digital surveys for participants to report their satisfaction with the event and actual on-site and projected sales data as a direct result of their participation in the program. This information will be used to measure the benefits of these activities for participants, participant satisfaction with the activities, and how activities can be improved. All revised surveys are expected to positively contribute to FAS' strategic goals related to promoting U.S. agricultural exports.

Description of Respondents: Affected Public: Business or other-for-profit; State, Local or Tribal Government; Respondent Types: private companies, agricultural cooperatives, and export trade associations; State Regional Trade Groups.

Number of Respondents: 2,300.

Frequency of Responses: Record keeping, Reporting: Annually.

Total Burden Hours: 444.

Rachelle Ragland-Greene,
Departmental Information Collection Clearance Officer.

[FR Doc. 2024-27335 Filed 11-20-24; 8:45 am]

BILLING CODE 3410-10-P